OFFICE OF THE UNITED STATES TRADE REPRESENTATIVE

Request for Comments on Japan's Expression of Interest in the Proposed Trans-Pacific Partnership Trade Agreement

AGENCY: Office of the United States Trade Representative.

ACTION: Request for comments.

SUMMARY: Japanese Prime Minister Noda recently announced Japan's intention to begin consultations with the Trans-Pacific Partnership (TPP) countries towards joining the TPP negotiations. The Office of the United States Trade Representative (USTR) is assessing Japan's expression of interest in the TPP negotiations in light of the TPP's high standards for liberalizing trade and specific issues of concern to the United States regarding Japanese barriers to agriculture, services, and manufacturing trade, including non-tariff measures. In conducting its assessment, USTR is seeking public comments on these concerns and all other elements related to Japan's interest in the TPP negotiations.

DATES: Written comments are due by noon, January 13, 2012.

ADDRESSES: Submissions via on-line: http://www.regulations.gov. For alternatives to on-line submissions please contact Donald W. Eiss at (202) 395-3475.

FOR FURTHER INFORMATION CONTACT: For questions concerning requirements for written comments, please contact Donald W. Eiss at (202) 395-3475. All other questions regarding this notice should be directed to Michael Beeman, Deputy Assistant U.S. Trade Representative for Japan, at (202) 395-5070.

SUPPLEMENTARY INFORMATION:

On December 14, 2009, after consulting with relevant Congressional committees, USTR notified Congress of the President's intent to initiate negotiations on a TPP trade agreement. These negotiations aim to achieve a high-standard, 21st century agreement with a membership and coverage that provides economically significant market access opportunities for America's workers, farmers, ranchers, service providers, and small businesses and that can expand to include additional countries across the Asia-Pacific region. Currently, the negotiations include Australia, Brunei Darussalam, Chile, Malaysia, New Zealand, Peru, Singapore, and Vietnam, as well as the United States. Further information regarding the TPP negotiations can be found at http://www.ustr.gov/tpp.

On November 11, 2011, Japanese Prime Minister Yoshihiko Noda announced Japan's intention to begin consultations with the current TPP participating countries towards joining the TPP negotiations. The Chair of the interagency Trade Policy Staff Committee (TPSC) invites interested persons to provide written comments that will assist USTR in assessing Japan's expression of interest in the TPP negotiations in light of the TPP's high standards for liberalizing trade and specific issues of concern to the United States regarding Japanese barriers to agriculture, services, and manufacturing trade, including non-tariff measures. Commenters may address these issues or any other specific barriers affecting U.S. exports to or investment in Japan. The TPSC Chair invites comments on all of these matters, and, in particular, on the following:

(a) Economic costs and benefits to U.S. producers and consumers of eliminating tariffs and eliminating or reducing non-tariff barriers on goods and services traded with Japan.

(b) Treatment by Japan of specific goods (described by HTSUS numbers), including product-specific import or export interests or barriers.

(c) Adequacy of existing customs measures to ensure that only qualifying imported goods from Japan receive preferential treatment, and appropriate rules of origin for goods entering the United States.

(d) Japanese sanitary and phytosanitary measures or technical barriers to trade that should be addressed.

(e) Existing barriers to trade in services between the United States and Japan that should be addressed.

(f) Relevant electronic commerce issues.

(g) Relevant trade-related intellectual property rights issues.

(h) Relevant investment issues.

(i) Relevant competition-related matters.

(j) Relevant government procurement issues.

(k) Relevant environmental issues.

(l) Relevant labor issues.

(m) Relevant transparency issues.

(n) Relevant issues related to innovation and competitiveness, new technologies and emerging economic sectors, the participation of small- and medium-sized businesses in trade, and the development of efficient production and supply chains.

Public Comment: Requirements for Submissions

Persons submitting written comments must do so in English and must identify (on the first page of the submission) “Japan's Expression of Interest in the Trans-Pacific Partnership Trade Negotiations.” In order to be assured of consideration, comments should be submitted by noon, January 13, 2012.

In order to ensure the timely receipt and consideration of comments, USTR strongly encourages commenters to make on-line submissions, using the http://www.regulations.gov Web site. Comments should be submitted under the following docket: USTR-2011-0018. To find the docket, enter the docket number in the “Enter Keyword or ID” window at the http://www.regulations.gov home page and click “Search.” The site will provide a search-results page listing all documents associated with this docket. Find a reference to this notice by selecting “Notices” under “Document Type” on the search-results page, and click on the link entitled “Submit a Comment.” (For further information on using the http://www.regulations.gov Web site, please consult the resources provided on the web site by clicking on the “Help” tab.)

The http://www.regulations.gov Web site provides the option of making submissions by filling in a comments field, or by attaching a document. USTR prefers submissions to be provided in an attached document. If a document is attached, it is sufficient to type “See attached” in the “Type comment & Upload File” field. USTR also prefers submissions in Microsoft Word (.doc) or Adobe Acrobat (.pdf). If the submission is in an application other than those two, please indicate the name of the application in the “Comments” field.

For any comments submitted electronically containing business confidential information, the file name of the business confidential version should begin with the characters “BC”. Any page containing business confidential information must be clearly marked “BUSINESS CONFIDENTIAL” on the top of that page. Filers of submissions containing business confidential information must also submit a public version of their comments. The file name of the public version should begin with the character “P”. The “BC” and “P” should be followed by the name of the person or entity submitting the comments or reply comments. Filers submitting comments containing no business confidential information should name their file using the character “P”, followed by the name of the person or entity submitting the comments.

Please do not attach separate cover letters to electronic submissions; rather, include any information that might appear in a cover letter in the comments themselves. Similarly, to the extent possible, please include any exhibits, annexes, or other attachments in the same file as the submission itself, not as separate files.

USTR strongly urges submitters to file comments through http://www.regulations.gov, if at all possible. Any alternative arrangements must be made with Donald W. Eiss in advance of transmitting a comment. Mr. Eiss should be contacted at (202) 395-3475. General information concerning USTR is available at http://www.ustr.gov.

Douglas Bell,
Chair, Trade Policy Staff Committee.

[FR Doc. 2011-31322 Filed 12-6-11; 8:45 am]

BILLING CODE 3190-W2-P